DEPARTMENT OF THE TREASURY

Office of Foreign Assets Control

Unblocking of Specially Designated National Pursuant to Executive Order 13219, as Amended

AGENCY: Office of Foreign Assets Control, Treasury.

ACTION: Notice.

SUMMARY: The Treasury Department's Office of Foreign Assets Control (“OFAC”) is publishing the name of an entity whose property and interests in property have been unblocked pursuant to Executive Order 13219 of June 26, 2001, Blocking Property of Persons Who Threaten International Stabilization Efforts in the Western Balkans, as amended by Executive Order 13304 of May 28, 2003, Termination of Emergencies With Respect to Yugoslavia and Modification of Executive Order 13219 of June 26, 2001.

DATES: The unblocking and removal from the list of the entity identified in this notice whose property and interests in property were blocked pursuant to Executive Order 13219 of June 26, 2001, as amended, is effective on March 4, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on demand service, tel.: (202) 622-0077.

Background

On June 27, 2001, the President, invoking the authority, inter alia, of the International Emergency Economic Powers Act (50 U.S.C. 1701-1706) (“IEEPA”), issued Executive Order 13219 (“E.O. 13219”). In E.O. 13219, the President declared a national emergency to deal with the threat posed by extremist violence in the Western Balkans and acts intended to obstruct implementation of the Dayton Accords in Bosnia or United Nations Security Council Resolution 1244 in Kosovo.

On May 28, 2003, the President issued Executive Order 13304 (“E.O. 13304”), terminating the national emergencies declared in Executive Order 12808 of May 30, 1992, and Executive Order 13088 of June 9, 1998, with respect to the former Socialist Federal Republic of Yugoslavia, revoking those and related executive orders, and taking additional steps with regard to the national emergency declared in E.O. 13219.

Section 1 of E.O. 13219, as amended by E.O. 13304, blocks, with certain exceptions, all property and interests in property that are in the United States, or that hereafter come within the United States or that are or hereafter come within the possession or control of United States persons, of: (i) The persons listed in the Annex to E.O. 13304; and (ii) persons designated by the Secretary of the Treasury, in consultation with the Secretary of State, because they are determined: (A) To be under open indictment by the International Criminal Tribunal for the former Yugoslavia, unless circumstances warrant otherwise, or (B) to have committed, or to pose a significant risk of committing, acts of violence that have the purpose of threatening the peace in or diminishing the stability or security of any area or state in the Western Balkans region, undermining the authority, efforts, or objectives of international organizations or entities present in the region, or endangering the safety of persons participating in or providing support to the activities of those international organizations or entities, or (C) to have actively obstructed, or to pose a significant risk of actively obstructing, the Ohrid Framework Agreement of 2001 relating to Macedonia, United Nations Security Council Resolution 1244 relating to Kosovo, or the Dayton Accords or the Conclusions of the Peace Implementation Conference held in London on December 8-9, 1995, including the decisions or conclusions of the High Representative, the Peace Implementation Council or its Steering Board, relating to Bosnia and Herzegovina, or (D) to have materially assisted in, sponsored, or provided financial, material, or technological support for, or goods or services in support of, such acts of violence or obstructionism, or any person listed in or designated pursuant to this order, or (E) to be owned or controlled by, or acting or purporting to act directly or indirectly for or on behalf of, any of the foregoing persons.

On March 4, 2008, the Director of OFAC removed from the list of Specially Designated Nationals the entity listed below, whose property and interests in property were blocked pursuant to E.O. 13219, as amended.

The listing of the unblocked entity follows:

SRPSKE SUME: State Forestry Company (Republika Srpska) (a.k.a. SRBSKE SUME; a.k.a. SRPSKA SUME), Sokolac, Bosnia-Herzegovina [BALKANS]

Dated: March 4, 2008.
Adam J. Szubin,
Director, Office of Foreign Assets Control.

[FR Doc. E8-4617 Filed 3-7-08; 8:45 am]

BILLING CODE 4811-45-P